DEPARTMENT OF LABOR

Employment and Training Administration

[TA-W-75,090]

Wausau Daily Herald, Advertising Production Division, a Subsidiary of Gannett Co., Inc.,Wausau, WI; Notice of Negative Determination on Reconsideration

On March 18, 2011, the Department issued an Affirmative Determination Regarding Application for Reconsideration regarding workers' eligibility to apply for Trade Adjustment Assistance (TAA) applicable to workers and former workers of Wausau Daily Herald, Advertising Production Division, a Subsidiary of Gannett Co., Inc., Wausau, Wisconsin (subject firm). The Department's Notice was published in the Federal Register on March 29, 2011 (76 FR 17446). Workers were engaged in employment related to the supply of graphic design services for newspaper advertisements.

The initial investigation resulted in a negative determination based on the findings that, during the relevant period, the subject firm did not shift to/acquire from a foreign country services like or directly competitive with the graphic design work supplied at the subject firm, or import these services from a foreign country. The Department collected information that revealed that worker group separations at the subject firm were attributable to a domestic shift of operations.

In the March 1, 2011 request for reconsideration, the petitioner alleged that “ads submitted to 2SdPro, India” demonstrate that “Gannett is outsourcing ads in order to reduce the workforce.” The petitioner also asserts that attachments to the petition support the allegation of a shift of services to India. Several of the attachments are printouts of articles from Gannettoid.com, which is a Web site that is not affiliated with Gannett Company, Inc.

The petition attachments consist of:

• A January 4, 2011 letter from the petitioner that states, in part, “in April of 2010” a portion of all online ads were sent to 2Adpro, that the “consolidation enables Gannett to eliminate all graphic artist positions at all Gannett daily newspapers (10 sites in Wisconsin) by outsourcing ads, and that the “ad centers in Des Moines, IA and Indianapolis, IN are centers in which all the ads flow through * * * then * * * sent to 2AdPro in India”;

• An August 5, 2010 separation notification letter;

• A document titled “Articles explaining Gannett action in reducing Ad Services Staff in all Gannett sites in the U.S.”;

• A November 23, 2009 “Gannettoid” article titled “Tentative rollout schedule set for GPCs”;

• An August 20, 2009 “Gannettoid” article titled “Ad Centers lead to cuts, big savings”;

• A September 2, 2009 “Gannettoid” article titled “Company confirms RABC reports”;

• An August 27, 2009 “Gannettoid” article titled “When will GCI confirm consolidation?”;

• An August 17, 2009 “Gannettoid” article titled “Ad production plans include layoffs”;

• A December 8, 2010 press release from Gannett;

• A June 6, 2008 article on http://ashvegas.squarespace.com titled “Citizen-Times outsourcing jobs to India?”;

• Screenshots of a “job order list” from “Zaapro Jobdirect” with a handwritten note “ads sent to 2AdPro India while still working at Wausau Daily Herald. From Wausau to India” (referenced in the January 4, 2011 letter);

• A list of newspapers or Gannett affiliates, with contact information (referenced in the January 4, 2011 letter); and

• An undated “Gannettoid” article titled “Tracking layoffs” with a handwritten note “See page 10 for Wisconsin.”

During the reconsideration investigation, the Department carefully reviewed information previously submitted from Gannett Co., Inc. and the petitioning worker group as well as information provided in the request for reconsideration and additional information submitted by the State of Wisconsin Dislocated Worker Program case manager assigned to the petitioner.

During the reconsideration investigation, the Department also collected new information from Gannett Co., Inc. regarding domestic and foreign operations in order to address the allegations and obtained clarification of previously-submitted information.

A careful review of previously-submitted information revealed that 2AdPro (an advertising firm located in India) handled an insignificant amount of overflow work for the subject firm and that the work that was transferred from the subject worker group in October 2010 was shifted to the Gannett Production Center and not to 2AdPro and that the plan to create the Gannett Production Center (GPC) dates back to October 2007.

Information obtained during the reconsideration investigation confirmed that workers and former workers of Wausau Daily Herald, Advertising Production Division, a Subsidiary of Gannett Co., Inc., Wausau, Wisconsin (subject worker group) performed advertising production work on computers for print and on-line publications, that advertising publication at the subject firm was consolidated into a Gannett corporate operation located in Des Moines, Iowa and Indianapolis, India in October 2010, that the corporate operation is known as the Gannett Production Center (GPC), and that workers who chose not to transfer to the GPC were separated.

New information obtained during the reconsideration investigation revealed that the contract between Gannett Co., Inc. and 2AdPro existed from September 2006 through March 2011 and that 2AdPro handled an insignificant amount of advertising production work outsourced from the subject facility prior to the consolidation of operations to the GPC.

Based on a careful review of information obtained during the initial and reconsideration investigations, the Department determines that neither a shift to a foreign country by the subject firm of services like or directly competitive with the graphic design work supplied by workers at the subject firm nor a foreign acquisition by the subject firm of such services, contributed importantly to subject worker group separations. Additionally, the subject firm did not increase imports of services like or directly competitive with those supplied by the subject worker group. Rather, worker separations at the subject firm in the period under investigation were attributable to a consolidation of domestic operations.

Conclusion

After careful reconsideration, I affirm the original notice of negative determination of eligibility to apply for worker adjustment assistance for workers and former workers of Wausau Daily Herald, Advertising Production Division, a Subsidiary of Gannett Co., Inc., Wausau, Wisconsin.

Signed in Washington, DC this 20th day of July, 2011.
Del Min Amy Chen,
Certifying Officer, Office of Trade Adjustment Assistance.

[FR Doc. 2011-19582 Filed 8-2-11; 8:45 am]

BILLING CODE 4510-FN-P